DEPARTMENT OF JUSTICE

Immigration and Naturalization Service

[INS No. 2090-00; AG Order No. 2336-2000]

RIN 1115-AE 26

Extension of Designation of Somalia Under Temporary Protected Status Program

AGENCY: Immigration and Naturalization Service, Justice.

ACTION: Notice.

SUMMARY: The designation of Somalia under the Temporary Protected Status (TPS) program expired on September 17, 2001. This notice extends the Attorney General's designation of Somalia under the TPS program until September 17, 2000. Eligible nationals of Somalia (or aliens having no nationality who last habitually resided in Somalia) may re-register for TPS and an extension of employment authorization. Re-registration is limited to persons who registered for the initial period of TPS, which ended on September 16, 1992, or who registered after that date under the late initial registration provision. Persons who are eligible for late initial registration may register for TPS during this extension.

EFFECTIVE DATES: The extension of the TPS designation for Somalia is effective September 18, 2000, and will remain in effect until September 17, 2001. The 30-day re-registration period begins November 20, 2000, and will remain in effect until December 20, 2000.

FOR FURTHER INFORMATION CONTACT: Michael Valverde, Residence and Status Services Branch, Adjudications, Immigration and Naturalization Service (INS), Room 3214, 425 I Street, NW., Washington, DC 20536, telephone (202) 514-4754.

SUPPLEMENTARY INFORMATION:

What Is the Statutory Authority To Extend the Designation of Somalia Under the TPS Program?

Section 244(b)(3)(A) of the Immigration and Nationality Act (Act) states that at least 60 days before the end of an extension or a designation, the Attorney General must review conditions in the foreign state for which the designation is in effect. 8 U.S.C. 1254a(b)(3)(A). If the Attorney General does not determine that the foreign state no longer meets the conditions for designation, the period is automatically extended for six months pursuant to section 244(b)(3)(C) of the Act. 8 U.S.C. 1254a(b)(3)(C). The period of designation may, however, be extended to 12 or 18 months at the Attorney General's discretion. 8 U.S.C. 1254a(b)(3)(C). Such an extension makes TPS available only to persons who have been continuously physically present in the United States from the effective date of the initial designation.

Why Did the Attorney General Decide To Extend the TPS Designation for Somalia?

On September 16, 1991, the Attorney General designated Somalia for TPS for a period of 12 months. 56 FR 46804 (Sept. 16, 1991). Since that date, the Departments of State and Justice have annually reviewed conditions within Somalia. Most recently, the Attorney General extended Somalia's TPS designation on September 13, 1999; based on that order, Somalia's TPS designation ran through September 17, 2000. 64 FR 49511 (Sept. 13, 1999).

The Departments of State and Justice have recently reviewed conditions within Somalia. The review resulted in a consensus that a further 12-month extension is warranted. The reasons for the extension are explained in a State Department memorandum that states: “Open warfare remains a fact of life in southern Somalia, where bands compete for land and power * * *. The current security situation in southern Somalia makes the unqualified return of Somalis from the United States dangerous.”

Based on these reviews, the Attorney General finds that conditions in Somalia warrant a 12-month extension of the designation of Somalia under section 244(b)(3)(C) of the Act. 8 U.S.C. 1254a(b)(3)(C). There continues to be an ongoing armed conflict within Somalia and, due to that conflict, requiring the return of aliens who are nationals of Somalia would pose a serious threat to their personal safety. 8 U.S.C. 1254a(b)(1)(A). Because the Attorney General did not determine that the conditions in Somalia no longer warrant TPS, the designation was automatically extended by operation of statute on September 18, 2000. 8 U.S.C. 1254a(b)(3)(C). On the basis of the findings described above, the Attorney General finds that the TPS designation for Somalia should be extended for an additional 12-month period, rather than the six-month automatic extension provided for in the statute. 8 U.S.C. 1254a(b)(3)(C).

If I Currently Have TPS, How Do I Register for an Extension?

Persons previously granted TPS under the Somalia program may apply for an extension by filing a Form I-821, Application for Temporary Protected Status, without the fee, during the re-registration period that begins November 20, 2000 and ends December 20, 2000. Additionally, you must file a Form I-765, Application for Employment Authorization. See the chart below to determine whether or not you must submit the one-hundred dollar ($100) filing fee with the Form I-765.

If | Then
You are applying for employment authorization through September 17, 2001 | You must complete and file the Form I-765, Application for Employment Authorization, with the one-hundred dollar ($100) fee.
You already have employment authorization or do not require employment authorization | You must complete and file the Form I-765 with no fee.
You are apply for employment authorization and are requesting a fee waiver | You must complete and file the Form I-765, a fee waiver request, and affidavit (and any other information) in accordance with 8 CFR 244.20.

To re-register for TPS, you also must include two identification photographs (1½″ x 1½″).

Where Should I File for an Extension of TPS?

Nationals of Somalia (or persons who have no nationality and who last habitually resided in Somalia) seeking to register for the extension of TPS must submit an application and accompanying materials to the district office of the INS that has jurisdiction over the applicant's place of residence.

When Can I File for an Extension of TPS?

The 30-day re-registration period begins November 20, 2000, and will remain in effective until December 20, 2000.

Is Late Initial Registration Possible?

Yes. In addition to timely re-registration, late initial registration is possible for some persons from Somalia under 8 CFR 244.2(f)(2). To apply for late initial registration an applicant must:

(1) Be a national of Somalia (or an alien having no nationality who last habitually resided in Somalia);

(2) Have been continuously physically present in the United States since September 16, 1991;

(3) Have continuously resided in the United States since September 16, 1991; and,

(4) Be admissible as an immigrant, except as otherwise provided in section 244(c) of the Act, and not ineligible under section 244(c)(2)(B) of the Act.

Additionally, the applicant must be able to demonstrate that, during the initial registration period from September 16, 1991, through September 16, 1992, he or she

(1) Was in valid nonimmigrant status, or had been granted voluntary departure status or any relief from removal;

(2) Had an application for change of status, adjustment of status, asylum, voluntary departure, or any relief from removal pending or subject to further review or appeal;

(3) Was a parolee or had a pending request for reparole; or

(4) Was the spouse or child of an alien currently eligible to be a TPS registrant. 8 CFR 244.2(f)(2).

An applicant for late initial registration must register no later than sixty (60) days from the expiration or termination of the condition listed above. 8 CFR 244.2(g).

How Does an Application for TPS Affect My Application for Asylum or Other Immigration Benefits?

An application for TPS does not affect an application for asylum or any other immigration benefit. A national of Somalia (or alien having no nationality who last habitually resided in Somalia) who is otherwise eligible for TPS and has applied for or plans to apply for asylum, but who has not yet been granted asylum or withholding of removal, may also apply for TPS. Denial of an application for asylum or any other immigration benefit does not affect an applicant's ability to register for TPS, although the grounds of denial may also be grounds of denial for TPS. For example, a person who has been convicted of a particularly serious crime is not eligible for asylum or TPS. 8 U.S.C. 1158(b)(2)(A); 8 U.S.C. 1254a(c)(2)(B).

Does This Extension Allow Nationals of Somalia (or Aliens Having No Nationality who Last Habitually Resided in Somalia) Who Entered the United States After September 16, 1991, To File for TPS?

No. This is a notice of an extension of the TPS designation for Somalia. It is not a notice of redesignation for Somalia for TPS. An extension of TPS does not change the required dates of continuous residence and continuous physical presence in the United States and does not expand TPS availability to include nationals of Somalia (or aliens having no nationality who last habitually resided in Somalia) who arrived in the United States after the date of the original designation, in this case, September 16, 1991.

Notice of Extension of Designation of Somalia Under the TPS Program

By the authority vested in me as Attorney General under section 244(b)(3)(A) and (C), and (b)(1) of the Act, I have consulted with the appropriate agencies of the Government concerning whether the conditions under which Somalia was designated for TPS continue to exist. As a result, I determine that the conditions for the original designation of TPS for Somalia continue to be met. 8 U.S.C. 1254a(b)(3)(A). Accordingly, I order as follows:

(1) The designation of Somalia under section 244(b) of the Act is extended for an additional 12-month period from September 18, 2000, until September 17, 2001.

(2) I estimate that there are approximately 350 nationals of Somalia (or persons having no nationality who last habitually resided in Somalia) who have been granted TPS and who are eligible for re-registration.

(3) In order to be eligible for TPS during the period from September 18, 2000, to September 17, 2001, nationals of Somalia (or persons having no nationality who last habitually resided in Somalia) who received a grant of TPS (or has an application pending) during the initial period of designation from September 16, 1991, until September 16, 1992, must re-register for TPS by filing a new application for TPS, Form I-821, along with an application for employment authorization, Form I-765, within the 30-day period beginning on November 20, 2000 and ending on December 20, 2000. Late registration will be allowed only for good cause shown pursuant to 8 CFR 244.17(c).

(4) Pursuant to section 244(b)(3)(A) of the Act, the Attorney General will review, at least 60 days before September 17, 2001, the designation of Somalia under the TPS program to determine whether the conditions for designation continue to be met. 8 U.S.C. 1254a(b)(3)(A). Notice of that determination, including the basis for the determination, will be published in the Federal Register. 8 U.S.C. 1254a(b)(3)(A).

(5) Information concerning the TPS program for nationals of Somalia (or persons who have no nationality and who last habitually resided in Somalia) will be available at local INS offices upon publication of this notice and on the INS website at http://www.insdoj.gov.

Dated: November 13, 2000.
Janet Reno,
Attorney General.

[FR Doc. 00-29546 Filed 11-17-00; 8:45 am]

BILLING CODE 4410-10-M